DEPARTMENT OF THE INTERIOR

Fish and Wildlife Service

[FWS-R3-ES-2022-N028 FXES11130300000-223-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before July 11, 2022.

ADDRESSES: Submit requests for copies of the applications and related documents, as well as any comments, by one of the following methods. All requests and comments should specify the applicant name(s) and application number(s) (e.g., TEXXXXXX; see table in SUPPLEMENTARY INFORMATION):

• Email: permitsR3ES@fws.gov. Please refer to the respective application number(s) (e.g., Application No. TEXXXXXX) in the subject line of your email message.

• U.S. Mail: Regional Director, Attn: Nathan Rathbun, U.S. Fish and Wildlife Service, Ecological Services, 5600 American Blvd. West, Suite 990, Bloomington, MN 55437-1458.

FOR FURTHER INFORMATION CONTACT: Nathan Rathbun, 612-713-5343 (phone); permitsR3ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications:

Application No. | Applicant | Species | Location | Activity | Type of take | Permit action
PER0042011 | Dragons Wynd, Minneapolis, MN | Rusty patched bumble bee (Bombus affinis) and Karner blue butterfly (Lycaeides melissa samuelis) | MN | Conduct presence/absence surveys, document habitat use, conduct population monitoring, and evaluate potential impacts | Capture, handle, and release | New.
TE92978B | Helms and Associates, Bellevue, IA | 17 freshwater mussels | IL, IN, IA, MI, MN, MO, OH, WI | Conduct presence/absence surveys, document habitat use, conduct population monitoring, and evaluate potential impacts | Capture, handle, and release | Renew.
ES30234C | Illinois Natural History Survey, Champaign, IL | Eastern massasauga rattlesnake (Sistrurus catenatus) | IL | Conduct presence/absence surveys, document habitat use, conduct population monitoring, and evaluate potential impacts | Add: new activity—powder marking—to existing authorized activities: capture, handle, PIT tag, mark, collect tissue and blood samples, and release | Amend.
PER0044063 | Bruce R. Galer, Elk River, MN | Rusty patched bumble bee (Bombus affinis) | IL, IN, MI, MN, OH, WI | Conduct presence/absence surveys, document habitat use, conduct population monitoring, and evaluate potential impacts | Capture, handle, and release | New.
ES64080B-3 | Michigan Natural Features Inventory, Michigan State University, Lansing, MI | American burying beetle (Nicrophorus americanus), clubshell (Pleurobema clava), copperbelly water snake (Nerodia erythrogaster neglecta), Hine's emerald dragonfly (Somatochlora hineana), Indiana bat (Myotis sodalis), Karner blue butterfly (Lycaeides melissa samuelis), Mitchell's satyr butterfly (Neonympha mitchellii mitchellii), northern long-eared bat (Myotis septentrionalis), northern riffleshell (Epioblasma rangiana), Poweshiek skipperling (Oarisma poweshiek), rayed bean (Villosa fabalis), rusty patched bumble bee (Bombus affinis), snuffbox (Epioblasma triquetra), white catspaw (Epioblasma obliquata perobliqua), and eight plant species | Add: new States—IL, IN, MA, MN, MO OH—to existing authorized State MI | Conduct presence/absence surveys, document habitat use, conduct population monitoring, and evaluate potential impacts | Capture, handle, identify, mark, light-tag, PIT-tag, salvage, collect bio-sample, collect pollen samples, collect voucher specimens, and release | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Lori Nordstrom,
Assistant Regional Director, Ecological Services.

[FR Doc. 2022-12508 Filed 6-9-22; 8:45 am]

BILLING CODE 4333-15-P